DEPARTMENT OF ENERGY

Federal Energy Regulatory Commission

Combined Notice of Filings No. 2

July 21, 2009.

Take notice that the Commission has received the following Natural Gas Pipeline Rate and Refund Report filings:

Docket Numbers: RP96-272-095.

Applicants: Northern Natural Gas Company.

Description: Northern Natural Gas Company submits 11 Revised Sheet 66B.01a et al. to its FERC Gas Tariff, Fifth Revised Volume 1 to be effective 7/21/09.

Filed Date: 07/20/2009.

Accession Number: 20090720-0217.

Comment Date: 5 p.m. Eastern Time on Monday, August 03, 2009.

Docket Numbers: RP05-422-033.

Applicants: El Paso Natural Gas Company.

Description: Supplemental Revenue Sharing Report of El Paso Natural Gas Company.

Filed Date: 07/17/2009.

Accession Number: 20090717-5081.

Comment Date: 5 p.m. Eastern Time on Wednesday, July 29, 2009.

Docket Numbers: RP09-61-008.

Applicants: Gulf Crossing Pipeline Company LLC.

Description: Gulf Crossing Pipeline Company LLC submits replacement amendment to negotiated rate letter agreements executed by Gulf Crossing and one of its customers in relation to the Gulf Crossing Project.

Filed Date: 07/17/2009.

Accession Number: 20090720-0001.

Comment Date: 5 p.m. Eastern Time on Wednesday, July 29, 2009.

Docket Numbers: RP09-670-001.

Applicants: Southern Natural Gas Company.

Description: Southern Natural Gas Company submits Substitute Twelfth Revised Sheet 212H to its FERC Gas Tariff, Seventh Revised Volume, to be effective 9/1/09.

Filed Date: 07/17/2009.

Accession Number: 20090717-0038.

Comment Date: 5 p.m. Eastern Time on Wednesday, July 29, 2009.

Docket Numbers: RP09-671-001.

Applicants: Southern LNG Inc.

Description: Southern LNG, Inc., submits Substitute Fourth Revised Sheet 99 to its FERC Gas Tariff, Original Volume 1, to be effective 9/1/09.

Filed Date: 07/17/2009.

Accession Number: 20090717-0037.

Comment Date: 5 p.m. Eastern Time on Wednesday, July 29, 2009.

Docket Numbers: RP09-811-001.

Applicants: Guardian Pipeline, LLC.

Description: Guardian Pipeline, LLC, submits Second Revised Sheet 223 to its FERC Gas Tariff, Original Volume 1.

Filed Date: 07/17/2009.

Accession Number: 20090720-0219.

Comment Date: 5 p.m. Eastern Time on Wednesday, July 29, 2009.

Docket Numbers: RP09-685-001.

Applicants: Eastern Shore Natural Gas Company.

Description: Eastern Shore Natural Gas Company submits Sub First Revised Sheet 100A et al. to its FERC Gas Tariff, Second Revised Volume 1 to be effective 8/1/09.

Filed Date: 07/20/2009.

Accession Number: 20090720-0218.

Comment Date: 5 p.m. Eastern Time on Monday, August 03, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-18104 Filed 7-29-09; 8:45 am]

BILLING CODE 6717-01-P